DEPARTMENT OF HOMELAND SECURITY

Federal Emergency Management Agency

[Docket ID FEMA-2023-0002; Internal Agency Docket No. FEMA-B-2326]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Arizona:
Maricopa | City of Scottsdale 22-09-1364P). | The Honorable David Ortega, Mayor, City of Scottsdale, 3939 North Drinkwater Boulevard, Scottsdale, AZ 85251. | Planning Records, 7447 East Indian School Road, Suite 100, Scottsdale, AZ 85251. | https://msc.fema.gov/portal/advanceSearch. | Jun. 9, 2023 | 045012
Maricopa | Unincorporated Areas of Maricopa County (22-09-1193P). | The Honorable Clint L. Hickman, Chair, Board of Supervisors, Maricopa County, 301 West Jefferson Street, 10th Floor, Phoenix, AZ 85003. | Flood Control District of Maricopa County, 2801 West Durango Street, Phoenix, AZ 85009. | https://msc.fema.gov/portal/advanceSearch. | Jul. 7, 2023 | 040037
California:
Nevada | City of Grass Valley (22-09-1769X). | The Honorable Ben Aguilar, Mayor, City of Grass Valley, 125 East Main Street, Grass Valley, CA 95945. | Public Works Department, 125 East Main Street, Grass Valley, CA 95945. | https://msc.fema.gov/portal/advanceSearch. | May 31, 2023 | 060211
Nevada | Town of Truckee (22-09-0327P). | The Honorable Lindsay Romack, Mayor, Town of Truckee, 10183 Truckee Airport Road, Truckee, CA 96161. | Eric W. Rood Administrative Center, 950 Maidu Avenue, Nevada City, CA 95959. | https://msc.fema.gov/portal/advanceSearch. | Jun. 12, 2023 | 060762
Riverside | City of Corona (22-09-1326P). | The Honorable Tony Daddario, Mayor, City of Corona, 400 South Vicentia Avenue, Corona, CA 92882. | City Hall, 400 South Vicentia Avenue, Corona, CA 92882. | https://msc.fema.gov/portal/advanceSearch. | Jun. 5, 2023 | 060250
Riverside | City of Corona (22-09-1747P). | The Honorable Tony Daddario, Mayor, City of Corona, 400 South Vicentia Avenue, Corona, CA 92882. | City Hall, 400 South Vicentia Avenue, Corona, CA 92882. | https://msc.fema.gov/portal/advanceSearch. | Jul. 10, 2023 | 060250
Riverside | City of Menifee (22-09-0396P). | The Honorable Bill Zimmerman, Mayor, City of Menifee, 29844 Haun Road, Menifee, CA 92586. | Public Works and Engineering Department, 29714 Haun Road, Menifee, CA 92586. | https://msc.fema.gov/portal/advanceSearch. | Jun. 15, 2023 | 060176
Riverside | City of Menifee (22-09-1027P). | The Honorable Bill Zimmerman, Mayor, City of Menifee, 29844 Haun Road, Menifee, CA 92586. | Public Works and Engineering Department, 29714 Haun Road, Menifee, CA 92586. | https://msc.fema.gov/portal/advanceSearch. | Jun. 30, 2023 | 060176
Riverside | City of Moreno Valley (22-09-0975P). | The Honorable Ulises Cabrera, Mayor, City of Moreno Valley, 14177 Frederick Street, Moreno Valley, CA 92553. | Public Works Department, 14177 Frederick Street, Moreno Valley, CA 92552. | https://msc.fema.gov/portal/advanceSearch. | Jul. 10, 2023 | 065074
Riverside | Unincorporated Areas of Riverside County (22-09-0281P). | The Honorable Kevin Jeffries, Chair, Board of Supervisors Riverside County, 4080 Lemon Street, 5th Floor, Riverside, CA 92501. | Riverside County, Flood Control and Water Conservation District, 1995 Market Street, Riverside, CA 92501. | https://msc.fema.gov/portal/advanceSearch. | Jun. 16, 2023 | 060245
Riverside | Unincorporated Areas of Riverside County (22-09-0396P). | The Honorable Kevin Jeffries, Chair, Board of Supervisors Riverside County, 4080 Lemon Street, 5th Floor, Riverside, CA 92501. | Riverside County, Flood Control and Water Conservation District, 1995 Market Street, Riverside, CA 92501. | https://msc.fema.gov/portal/advanceSearch. | Jun. 15, 2023 | 060245
Riverside | Unincorporated Areas of Riverside County (22-09-1027P). | The Honorable Kevin Jeffries, Chair, Board of Supervisors Riverside County, 4080 Lemon Street, 5th Floor, Riverside, CA 92501. | Riverside County, Flood Control and Water Conservation District, 1995 Market Street, Riverside, CA 92501. | https://msc.fema.gov/portal/advanceSearch. | Jun. 30, 2023 | 060245
Riverside | Unincorporated Areas of Riverside County, (22-09-1747P). | The Honorable Kevin Jeffries, Chair, Board of Supervisors Riverside County, 4080 Lemon Street, 5th Floor, Riverside, CA 92501. | Riverside County, Flood Control and Water Conservation District, 1995 Market Street, Riverside, CA 92501. | https://msc.fema.gov/portal/advanceSearch. | Jul. 10, 2023 | 060245
San Diego | City of San Marcos (22-09-1048P). | The Honorable Rebecca Jones, Mayor, City of San Marcos, 1 Civic Center Drive, San Marcos, CA 92069. | City Hall, 1 Civic Center Drive, San Marcos, CA 92069. | https://msc.fema.gov/portal/advanceSearch. | Jul. 5, 2023 | 060296
Florida: Nassau | Unincorporated Areas of Nassau County (22-04-3256P). | Taco Pope, County Manager, Nassau County, County Manager's Office, 96135 Nassau Place, Suite 1, Yulee, FL 32097. | Nassau County Building Department, 96161 Nassau Place, Yulee, FL 32097. | https://msc.fema.gov/portal/advanceSearch. | Jun. 22, 2023 | 120170
Idaho: Canyon | City of Caldwell (22-10-0547P). | The Honorable Jarom Wagoner, Mayor, City of Caldwell, City Hall, 411 Blaine Street, Caldwell, ID 83605. | City Hall, 621 Cleveland Boulevard, 2nd Floor, Caldwell, ID 83605. | https://msc.fema.gov/portal/advanceSearch. | Jul. 3, 2023 | 160036
Illinois:
Cook | City of Calumet City (22-05-1085P). | The Honorable Thaddeus M. Jones, Mayor, City of Calumet City, 204 Pulaski Road, Calumet City, IL 60409. | City Hall, 204 Pulaski Road, Calumet City, IL 60409. | https://msc.fema.gov/portal/advanceSearch. | Jun. 29, 2023 | 170072
Cook | Village of South Holland (22-05-1085P). | The Honorable Don A. De Graff, Mayor, Village of South Holland, Village Hall, 16226 Wausau Avenue, South Holland, IL 60473. | Planning & Development Department, 16226 Wausau Avenue, South Holland, IL 60473. | https://msc.fema.gov/portal/advanceSearch. | Jun. 29, 2023 | 170163
Will | City of Naperville (22-05-3407P). | The Honorable Steve Chirico, Mayor, City of Naperville, Municipal Center, 400 South Eagle Street, Naperville, IL 60540. | Municipal Center, 400 South Eagle Street, Naperville, IL 60540. | https://msc.fema.gov/portal/advanceSearch. | Jun. 29, 2023 | 170213
Indiana:
Monroe | City of Bloomington (22-05-1490P). | The Honorable John Hamilton, Mayor, City of Bloomington, 401 North Morton Street, Suite 210, Bloomington, IN 47404. | Planning Department, 401 North Morton Street, Bloomington, IN 47402. | https://msc.fema.gov/portal/advanceSearch. | Jul. 5, 2023 | 180169
Monroe | Unincorporated Areas of Monroe County (22-05-1490P). | Julie Thomas, Commissioner—District 2, Monroe County Board of Commissioners, Monroe County Courthouse, 100 West Kirkwood Avenue, Bloomington, IN 47404. | Monroe County Courthouse, 100 West Kirkwood Avenue, Room 306, Bloomington, IN 47404. | https://msc.fema.gov/portal/advanceSearch. | Jul. 5, 2023 | 180444
Minnesota:
Hennepin | City of Plymouth (22-05-2089P). | The Honorable Jeffry Wosje, Mayor, City of Plymouth, 3400 Plymouth Boulevard, Plymouth, MN 55447. | City Hall, 3400 Plymouth Boulevard, Plymouth, MN 55447. | https://msc.fema.gov/portal/advanceSearch. | Jun. 30, 2023 | 270179
Wabasha | City of Mazeppa (22-05-2195P). | The Honorable Chris Hagfors, Mayor, City of Mazeppa, 121 Maple Street, Mazeppa, MN 55956. | City Hall, 1st and Maple Streets, Mazeppa, MN 55957. | https://msc.fema.gov/portal/advanceSearch. | Jun. 15, 2023 | 270487
Nebraska:
Lancaster | City of Lincoln (22-07-0708P). | The Honorable Leirion Gaylor Baird, Mayor, City of Lincoln, 555 South 10th Street, Lincoln, NE 68508. | Building & Safety Department, 555 South 10th Street, Lincoln, NE 68508. | https://msc.fema.gov/portal/advanceSearch. | May 23, 2023 | 315273
Lancaster | Unincorporated Areas of Lancaster County (22-07-0708P). | Chair Deb Schorr, Lancaster County Board of Commissioners, 555 South 10th Street, Room 110, Lincoln, NE 68508. | Lancaster County Building & Safety Department, 555 South 10th Street, Lincoln, NE 68508. | https://msc.fema.gov/portal/advanceSearch. | May 23, 2023 | 310134
Nevada: Clark | City of Henderson (22-09-1370P). | The Honorable Michelle Romero, Mayor, City of Henderson, City Hall, 240 South Water Street, Henderson, NV 89015. | Public Works Department, 240 South Water Street, Henderson, NV 89015. | https://msc.fema.gov/portal/advanceSearch. | Jun. 8, 2023 | 320005
Ohio:
Fairfield. | City of Pickerington (22-05-1171P). | The Honorable Lee A. Gary, Mayor, City of Pickerington, 100 Lockville Road, Pickerington, OH 43147. | City Hall, 51 East Columbus Street, Pickerington, OH 43147. | https://msc.fema.gov/portal/advanceSearch. | May 25, 2023 | 390162
Fairfield | Unincorporated Area of Fairfield County (22-05-1171P). | Jeffery Fix, Fairfield County Commissioner, 210 East Main Street, Room 302, Lancaster, OH 43130. | Fairfield County Regional Planning Commission, 210 East Main Street, Room 104, Lancaster, OH 43130. | https://msc.fema.gov/portal/advanceSearch. | May 25, 2023 | 390158
Washington:
Spokane | Unincorporated Areas of Spokane County (22-10-0742P). | Scott Simmons, Chief Executive Officer, Spokane County, 1116 West Broadway Avenue, Spokane, WA 99260. | Spokane County, Public Works Building, 1026 West Broadway Avenue, Spokane, WA 99260. | https://msc.fema.gov/portal/advanceSearch. | Jun. 1, 2023 | 530174
Whatcom | City of Lynden (22-10-0639P). | The Honorable Scott Korthuis, Mayor, City of Lynden, City Hall, 300 4th Street, Lynden, WA 98264. | City Hall, 300 4th Street, Lynden, WA 98264. | https://msc.fema.gov/portal/advanceSearch. | Jun. 29, 2023 | 530202
Wisconsin:
Outagamie | Village of Shiocton (22-05-2012P). | Terri James, President, Village of Shiocton, Village Hall, P.O. Box 96, Shiocton, WI 54170. | Village Hall, N5605 State Road 76, Shiocton, WI 54170. | https://msc.fema.gov/portal/advanceSearch. | May 30, 2023 | 550309
Portage | Unincorporated Areas of Portage County (23-05-0737X). | Chair Al Haga, Jr., Portage County, Board of Supervisors, 2140 Norway Pine Drive, Plover, WI 54467. | Portage County Courthouse, 1516 Church Street, Stevens Point, WI 54481. | https://msc.fema.gov/portal/advanceSearch. | Jun. 5, 2023 | 550572
Racine | City of Racine (22-05-0143P). | The Honorable Cory Mason, Mayor, City of Racine, City Hall, 730 Washington Avenue, Room 201, Racine, WI 53403. | City Hall, 730 Washington Avenue, Racine, WI 53403. | https://msc.fema.gov/portal/advanceSearch. | Jun. 29, 2023 | 555575
Racine | Village of Mount Pleasant (22-05-0143P). | The Honorable Dave Degroot, President, Village of Mount Pleasant, Village Hall, 8811 Campus Drive, Mount Pleasant, WI 53406. | Village Hall, 8811 Campus Drive, Mount Pleasant, WI 53406. | https://msc.fema.gov/portal/advanceSearch. | Jun. 29, 2023 | 550322
Racine | Village of Sturtevant (22-05-0143P). | The Honorable Mike Rosenbaum, President, Village of Sturtevant, 2801 89th Street, Sturtevant, WI 53177. | Village Hall, 2801 89th Street, Sturtevant, WI 53177. | https://msc.fema.gov/portal/advanceSearch. | Jun. 29, 2023 | 550353

[FR Doc. 2023-06276 Filed 3-24-23; 8:45 am]

BILLING CODE 9110-12-P